DEPARTMENT OF THE INTERIOR

National Park Service

Notice of Inventory Completion: U.S. Department of Defense, Naval Air Weapons Station, China Lake, CA, and Maturango Museum, Ridgecrest, CA

AGENCY: National Park Service, Interior.

ACTION: Notice.

Notice is here given in accordance with the Native American Graves Protection and Repatriation Act (NAGPRA), 25 U.S.C. 3003, of the completion of an inventory of human remains and associated funerary objects in the control of the U.S. Department of Defense, Naval Air Weapons Station (NAWS), China Lake, CA, and in the physical custody of the Maturango Museum, Ridgecrest, CA. The human remains and funerary objects were removed from NAWS sites in the Coso Mountains, Inyo County, CA.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains and funerary objects was made by the NAWS professional staff in consultation with representatives of the Big Pine Band of Owens Valley Paiute Shoshone Indians of the Big Pine Reservation, California; Bridgeport Paiute Indian Colony of California; Death Valley Timbi-Sha Shoshone Band of California; Fort Independence Indian Community of Paiute Indians of the Fort Independence Reservation, California; Kern River Valley Indian Community (a non-federally recognized Indian group); Paiute-Shoshone Indians of the Bishop Community of the Bishop Colony, California; and Paiute-Shoshone Indians of the Lone Pine Community of the Lone Pine Reservation, California.

In 1967, human remains representing a minimum of one individual were removed from Ray Cave (CA-INY-444), Inyo County, CA, by excavators under the direction of Mr. R.J. Fitzwater and Dr. Charles Rozaire. No known individual was identified. No associated funerary objects are present.

Site occupation was prehistoric and historic, from 2,000 B.C. to A.D. 650, as determined by radiocarbon tests of buried charcoal, obsidian hydration dating, and analysis of diagnostic artifacts. The consulting archeologist was unable to determine cultural affiliation archeologically; however, the NAWS archeological staff has determined the human remains to be Panamint Shoshone, ancestors of the present-day Timbi-sha Shoshone, based on ethnography and on the probable prehistoric distribution of Numic languages in the Southwestern Great Basin.

Between 1967 and 1969, human remains representing a minimum of ten individuals were removed from Chapman Caves I and II (CA-INY-1534A and B), Inyo County, CA, by excavators under the direction of Dr. Tim Hillebrand. No known individuals were identified. The 3,238 associated funerary objects are 16 arrow shafts, 1 asphaltum, 3 pieces of baked clay, 72 basketry fragments, 25 beads, 26 bifaces, 1,246 faunal bones, 26 pieces of charcoal, 37 clay items, 8 cloth fragments, 4 cobble core tools, 12 coprolites, 10 pieces of cordage, 1 crystal, 1,268 pieces of debitage, 60 flake tools, 2 insect remains, 5 leather fragments, 1 metal item, 5 groundstones, 10 miscellaneous stones, 3 modified bone tools, 2 modified organics, 6 modified wood or organic items, 95 organic fragments, 3 unidentified historic items, 2 pendants, 2 pigment samples, 12 projectile points, 269 seeds, and 6 sherds. Other artifacts associated with the burials are currently missing from the collection.

Site occupation spans the Prehistoric and Historic periods (A.D. 500 to the 1800s), as determined by radiocarbon tests of buried charcoal, obsidian hydration dating, and analysis of diagnostic artifacts. The human remains have been determined to be Panamint Shoshone, ancestors of the present-day Timbi-sha Shoshone, by the consulting archeologist, based on osteological analysis of the remains, time span of the deposits, analysis of burial customs, and characteristics of associated artifacts.

In 1981, human remains representing a minimum of one individual were removed from the Open-Air Midden locus of site State Primary No.14-5488 by excavators under the direction of Dr. Phil Wilke. No known individual was identified. No associated funerary objects are present.

Site occupation was prehistoric, from 2,000 B.C. to A.D. 1350, as determined by analysis of diagnostic artifacts. The NAWS archeological staff has determined that the human remains are Panamint Shoshone, ancestors of the present-day Timbi-sha Shoshone, based on ethnography and on the probable prehistoric distribution of Numic languages in the Southwestern Great Basin.

In 1989, human remains representing a minimum of two individuals were excavated from site CA-INY-2847, Inyo County, CA, by Dr. C.W. Clewlow, Jr., and NAWS China Lake archeological personnel. The human remains and associated funerary objects were reinterred immediately following excavation, except for two bone fragments. No known individuals were identified. No associated funerary objects are present.

The human remains were dated from associated artifacts to between 1,350 and 4,000 B.P. The NAWS archeological staff has determined the human remains to be Panamint Shoshone, ancestors of the present-day Timbi-sha Shoshone, based on ethnography and on the probable prehistoric distribution of Numic languages in the Southwestern Great Basin.

Officials of the NAWS have determined that, pursuant to 25 U.S.C. 3001 (9-10), the human remains described above represent the physical remains of 14 individuals of Native American ancestry. Officials of the NAWS also have determined that, pursuant to 25 U.S.C. 3001 (3)(A), the 3,238 objects described above are reasonably believed to have been placed with or near individual human remains at the time of death or later as part of the death rite or ceremony. Lastly, officials of the NAWS have determined that, pursuant to 25 U.S.C. 3001 (2), there is a relationship of shared group identity that can be reasonably traced between the human remains and associated funerary objects and the Death Valley Timbi-Sha Shoshone Band of California.

Representatives of any other Indian tribe that believes itself to be culturally affiliated with the human remains and associated funerary objects should contact Mr. Russell Kaldenberg, Cultural Resources Program Manager, at Code N45NCW, 429 E. Bowen Road, Mail Stop 4014, Naval Air Weapons Station, China Lake, CA 93555, telephone (760) 939-1350 before January 9, 2006. Repatriation of the human remains and associated funerary objects to the Death Valley Timbi-Sha Shoshone Band of California may proceed after that date if no additional claimants come forward.

The NAWS is responsible for notifying the Big Pine Band of Owens Valley Paiute Shoshone Indians of the Big Pine Reservation, California; Bridgeport Paiute Indian Colony of California; Death Valley Timbi-Sha Shoshone Band of California; Fort Independence Indian Community of Paiute Indians of the Fort Independence Reservation, California; Kern River Valley Indian Community (a non-federally recognized Indian group); Paiute-Shoshone Indians of the Bishop Community of the Bishop Colony, California; and Paiute-Shoshone Indians of the Lone Pine Community of the Lone Pine Reservation, California that this notice has been published.

Dated: November 3, 2005
Sherry Hutt,
Manager, National NAGPRA program.

[FR Doc. 05-23866 Filed 12-8-05; 8:45 am]

BILLING CODE 4312-50-S